DEPARTMENT OF THE INTERIOR

Geological Survey

[GX16GA01GD0SH00]

White House National Science and Technology Council; Subcommittee on Disaster Reduction; U.S. National Platform for the United Nations Office for Disaster Risk Reduction

AGENCY: U.S. Geological Survey, Interior.

ACTION: Notice of listening session for the U.S. National Platform.

SUMMARY: Pursuant to Public Law 106-148, the U.S. National Platform for the United Nations Office for Disaster Risk Reduction (UNISDR)—facilitated by the White House National Science and Technology Council (NSTC) Subcommittee on Disaster Reduction (SDR), which is co-chaired by the U.S. Geological Survey—plans to host a listening session at the 41st Natural Hazards Center Annual Workshop (Interlocken A, Omni Interlocken Resort, Broomfield, Colorado) to hear multi-sectoral perspectives from non-governmental organizations, academic institutions, local and state governments, and private corporations on the implementation of targets and indicators for UNISDR's Sendai Framework for Disaster Risk Reduction 2015-2030.

DATES: Sunday, July 10, 2016, from 7:00 p.m.-9:00 p.m. Mountain Daylight Time.

FOR FURTHER INFORMATION CONTACT: For further information about the event or to RSVP to attend, please contact David Applegate, U.S. Geological Survey, Mail Stop 111, National Center, Reston, Virginia 20192, 703-648-6600 or Bret Schothorst, NSTC Subcommittee on Disaster Reduction Executive Secretary, 703-388-0312.

SUPPLEMENTARY INFORMATION: Per the Federal Advisory Committee Act, the U.S. National Platform for UNISDR must advertise any formal listening session or consultation with outside groups in the Federal Register. This event is free and open to the public.

James D.R. Applegate,
Co-Chair, Subcommittee on Disaster Reduction, Associate Director for Natural Hazards, U.S. Geological Survey.

[FR Doc. 2016-14606 Filed 6-20-16; 8:45 am]

BILLING CODE 4338-11-P